DEPARTMENT OF STATE

[Public Notice 3941]

Culturally Significant Objects Imported for Exhibition Determinations: “The Art and Politics of Arthur Szyk”

AGENCY: United States Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999 (64 FR 56014), and Delegation of Authority No. 236 of October 19, 1999 (64 FR 57920), as amended, I hereby determine that the objects to be included in the exhibition, “The Art and Politics of Arthur Szyk,” imported from abroad for temporary exhibition within the United States, are of cultural significance. These objects are imported pursuant to a loan agreement with a foreign lender. I also determine that the exhibition or display of the exhibit objects at the United States Holocaust Memorial Museum, Washington, DC, from on or about April 11, 2002, to on or about October 14, 2002, and at possible additional venues yet to be determined, is in the national interest. Public Notice of these determinations is ordered to be published in the Federal Register.

FOR FURTHER INFORMATION CONTACT: For further information, including a list of exhibit objects, contact Paul W. Manning, Attorney-Adviser, Office of the Legal Adviser, 202/619-5997, and the address is United States Department of State, SA-44, Room 700, 301 4th Street, SW., Washington, DC 20547-0001.

Dated: March 1, 2002.
Patricia S. Harrison,
Assistant Secretary for Educational and Cultural Affairs, United States Department of State.

[FR Doc. 02-5769 Filed 3-8-02; 8:45 am]

BILLING CODE 4710-08-P